DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 23, 2015.
Roy E. Wright,
Deputy Associate Administrator for Mitigation, Department of Homeland Security, Federal Emergency Management Agency.

State and county | Location and case No. | Chief executive officer of community | Community map repository | Effective date of modification | Community No.
Kentucky: Boyd, (FEMA Docket No.: B-1444) | Unincorporated areas of Boyd County (14-04-3344P) | The Honorable Steve Towler, Boyd County Judge Executive, P.O. Box 423, Catlettsburg, KY 41129 | Boyd County Courthouse, 2800 Louisa Street, Catlettsburg, KY 41129 | Jan. 15, 2015 | 210016
Ohio: Tuscarawas, (FEMA Docket No.: B-1444) | Unincorporated areas of Tuscarawas County (14-05-2619P) | The Honorable Chris Abbuhl, President, Tuscarawas County Board of Commissioners, 125 East High Avenue, New Philadelphia, OH 44663 | Tuscarawas County Administrative Office, 125 East High Avenue, New Philadelphia, OH 44663 | Jan. 12, 2015 | 390782
Texas:
Bastrop, (FEMA Docket No.: B-1444) | Unincorporated areas of Bastrop County (14-06-0986P) | The Honorable Paul Pape, Bastrop County Judge, 804 Pecan Street, Bastrop, TX 78602 | Bastrop County, Tax Assessor and Development Services Building, 211 Jackson Street, Bastrop, TX 78602 | Jan. 9, 2015 | 481193
Bexar, (FEMA Docket No.: B-1444) | City of San Antonio (14-06-1774P) | The Honorable Ivy R. Taylor, Mayor, City of San Antonio, P.O. Box 839966, San Antonio, TX 78283 | Department of Public Works, Stormwater Engineering, 1901 South Alamo Street, 2nd Floor, San Antonio, TX 78204 | Jan. 15, 2015 | 480045
Bexar, (FEMA Docket No.: B-1444) | Unincorporated areas of Bexar County (13-06-4182P) | The Honorable Nelson W. Wolff, Paul Elizondo Tower, 101 West Nueva Street, 10th Floor, San Antonio, TX 78205 | Bexar County Public Works Department, 233 North Pecos-La Trinidad Stret, Suite 420, San Antonio, TX 78207 | Jan. 8, 2015 | 480035
Denton, (FEMA Docket No.: B-1444) | City of The Colony (14-06-2287P) | The Honorable Joe McCourry, Mayor, City of The Colony, 6800 Main Street, The Colony, TX 75056 | 6800 Main Street, The Colony, TX 75056 | Jan. 20, 2015 | 481581
El Paso, (FEMA Docket No.: B-1444) | City of El Paso (14-06-0855P) | The Honorable Oscar Leeser, Mayor, City of El Paso, 300 North Campbell Street, El Paso, TX 79901 | Land Development, 801 Texas Avenue, El Paso, TX 79901 | Jan. 21, 2015 | 480214
Harris, (FEMA Docket No.: B-1444) | Unincorporated areas of Harris County (14-06-2404P) | The Honorable Ed M. Emmett, Harris County Judge, 1001 Preston Street, Suite 911, Houston, TX 77002 | Harris County Permits Office, 10555 Northwest Freeway, Suite 120, Houston, TX 77092 | Jan. 12, 2015 | 480287
Virginia: Loudoun, (FEMA Docket No.: B-1444) | Town of Leesburg (14-03-1028P) | The Honorable Kristen C. Umstattd, Mayor, Town of Leesburg, 25 West Market Street, Leesburg, VA 20176 | Town Hall, 25 West Market Street, Leesburg, VA 20176 | Jan. 8, 2015 | 510091

[FR Doc. 2015-07401 Filed 3-31-15; 8:45 am]

BILLING CODE 9110-12-P